DEPARTMENT OF ENERGY

Federal Energy Regulatory Commission

Notice of Effectiveness of Exempt Wholesale Generator or Foreign Utility Company Status

February 6, 2007.

| Docket No.
Rathdrum Power, LLC | EG07-10-000
Loess Hills Wind Farm, LLC | EG07-11-000
Locust Ridge Wind Farm, LLC | EG07-12-000
Endeavor Power Partners, LLC | EG07-13-000
Brush Cogeneration Partners | EG07-14-000
Telecaset Wind Power Partners, LLC | EG07-16-000
MMC Mid-Sun, LLC | EG07-17-000
NE Hydro Generating Company | EG07-18-000
InterGen (International) B.V | FC07-4-000
Energia Azteca VIII, S. de R.L. de C.V.
Servicios Azteca VIII, S. de R.L. de C.V.
Operaciones Azteca VIII, S. de. R.L. de C.V.
El Paso Corporation | FC07-5-000
El Paso Amazonas Energia, Ltda.
El Paso Rio Negro Energia Ltda.
Termo Norte Energia Ltda.
The Nejapa Power Company, Ltd.
Tipitapa Power Company, Ltd.
Khulna Power Company, Ltd.
Saba Power Company (Private) Ltd.
Hablbullah Costal Power (Private) Co.

Take notice that during the month of January 2007, the status of the above-captioned entities as Exempt Wholesale Generators or Foreign Utility Companies became effective by operation of the Commission's regulations. 18 CFR 366.7(a).

Magalie R. Salas,
Secretary.

[FR Doc. E7-2383 Filed 2-12-07; 8:45 am]

BILLING CODE 6717-01-P